DEPARTMENT OF ENERGY

Federal Energy Regulatory Commission

[Docket Nos. ER16-1341-000 and ER16-1341-001]

Southwest Power Pool, Inc.; Notice Affording the Parties an Opportunity To File Briefs

1. On January 5, 2018, Xcel Energy Services Inc. filed with the United States Court of Appeals for the District of Columbia Circuit (D.C. Circuit) a petition for review of the Commission's orders in Southwest Power Pool, Inc., 156 FERC ¶ 61,020 (2016) and Southwest Power Pool, Inc., 161 FERC ¶ 61,144 (2017). On July 19, 2018, the Commission filed an unopposed motion for voluntary remand of the above-captioned proceedings ¹ so that it may consider the implications of the D.C. Circuit's decision in Old Dominion Electric Cooperative v. FERC.² In the Voluntary Remand Motion, the Commission stated that it “will permit the parties to file, within 30 days of the Court's order on this motion, supplemental pleadings on the significance of the Old Dominion decision (or on any matter of relevance).” ³ On July 31, 2018, the D.C. Circuit granted the Voluntary Remand Motion.⁴

¹ Xcel Energy Serv. Inc. v. FERC, Unopposed Motion of Respondent Federal Energy Regulatory Commission for Voluntary Remand, No. 18-1005 (filed July 19, 2018) (Voluntary Remand Motion).

² Old Dominion Elec. Coop. v. FERC, No. 16-1111, 2018 WL 2993205 (D.C. Cir. 2018) (Old Dominion).

³ Voluntary Remand Motion at 2.

⁴ Xcel Energy Serv. Inc. v. FERC, No. 18-1005, Order (issued July 31, 2018).

2. Accordingly, the parties are hereby afforded the opportunity to file briefs with the Commission by August 31, 2018, addressing the significance to these proceedings of the Old Dominion decision or any other matter of relevance.

Dated: August 6, 2018.
Kimberly D. Bose,
Secretary.

[FR Doc. 2018-17355 Filed 8-10-18; 8:45 am]

BILLING CODE 6717-01-P